DEPARTMENT OF LABOR

Bureau of Labor Statistics

Proposed Collection; Comment Request

ACTION: Notice.

SUMMARY: The Department of Labor, as part of its continuing effort to reduce paperwork and respondent burden, conducts a pre-clearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Bureau of Labor Statistics (BLS) is soliciting comments concerning the proposed revision of “The Consumer Expenditure Surveys: The Quarterly Interview and the Diary.” A copy of the proposed information collection request (ICR) can be obtained by contacting the individual listed below in the ADDRESSES section of this notice.

DATES: Written comments must be submitted to the office listed in the ADDRESSES section below on or before June 29, 2004.

ADDRESSES: Send comments to Amy A. Hobby, BLS Clearance Officer, Division of Management Systems, Bureau of Labor Statistics, Room 4080, 2 Massachusetts Avenue, NE., Washington, DC 20212, telephone number 202-691-7628. (This is not a toll free number.)

FOR FURTHER INFORMATION CONTACT: Amy A. Hobby, BLS Clearance Officer, telephone number 202-691-7628. (See ADDRESSES section.)

SUPPLEMENTARY INFORMATION:

I.Background

The Consumer Expenditure (CE) Surveys collect data on consumer expenditures, demographic information, and related data needed by the Consumer Price Index (CPI) and other public and private data users. The continuing surveys provide a constant measurement of changes in consumer expenditure patterns for economic analysis and to obtain data for future CPI revisions. The CE Surveys have been ongoing since 1979.

The data from the CE Surveys are used (1) For CPI revisions, (2) to provide a continuous flow of data on income and expenditure patterns for use in economic analysis and policy formulation, and (3) to provide a flexible consumer survey vehicle that is available for use by other Federal Government agencies. Public and private users of price statistics, including Congress and the economic policymaking agencies of the Executive branch, rely on data collected in the CPI in their day-to-day activities. Hence, data users and policymakers widely accept the need to improve the process used for revising the CPI. If the CE Surveys were not conducted on a continuing basis, current information necessary for more timely, as well as more accurate, updating of the CPI would not be available. In addition, data would not be available to respond to the continuing demand from the public and private sectors for current information on consumer spending.

In the Quarterly Interview Survey, each consumer unit (CU) in the sample is interviewed every three months over five calendar quarters. The sample for each quarter is divided into three panels, with CUs being interviewed every three months in the same panel of every quarter. The Quarterly Interview Survey is designed to collect data on the types of expenditures that respondents can be expected to recall for a period of three months or longer. In general the expenses reported in the Interview Survey are either relatively large, such as property, automobiles, or major appliances, or are expenses which occur on a fairly regular basis, such as rent, utility bills, or insurance premiums.

The Diary (or recordkeeping) Survey is completed at home by the respondent family for two consecutive one-week periods. The primary objective of the Diary Survey is to obtain expenditure data on small, frequently purchased items which normally are difficult to recall over longer periods of time.

II. Desired Focus of Comments

The Bureau of Labor Statistics is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Action

The BLS and the Census Bureau have completed a sample redesign based on the 2000 Census to be implemented for the Quarterly Interview in November, 2004 and for the Diary in January, 2005. While the new sample is introduced for the Quarterly Interview, there will be some overlap of old and new samples in some primary sampling units (PSUs) or areas in which CE data are collected.

The BLS also is introducing a new Diary in which respondents report their daily expenditures. The BLS has reduced the number of “parts” of the Diary from five to four, eliminating “Food and Drinks as Gifts” as a separate part. In the remaining parts, the subgroups have either decreased or been eliminated, making it easier for the respondent to record their purchases. In the “Food and Drinks Away From Home” part, there are check boxes that help the respondent report the type of information the BLS needs. There also are fold-outs that have helpful tips for reporting information and a pocket for receipts to aid in remembering expenditures. These changes will facilitate the task of filling out the Diary for the respondent.

Because of the implementation of Computer Assisted Personal Interview (CAPI) for the Quarterly Interview, the estimate of the time it takes to complete an interview has changed. Based on timing data maintained within the instrument, the BLS has determined the average interview time to be 70 minutes, down from an estimated 90 minutes. The BLS only recently implemented CAPI for the Diary Household Characteristics Survey and is unable to calculate the average at this time. The BLS is expecting a decrease in the average time for Diary interviews for the next clearance.

Type of Review: Revision of a currently approved collection.

Agency: Bureau of Labor Statistics.

Title: The Consumer Expenditure Surveys: The Quarterly Interview and the Diary.

OMB Number: 1220-0050.

Form | Total respondents | Frequency | Total responses | Average time per response | Estimated total burden (in hours)
CE Quarterly Interview CAPI Instrument | 11,024 | 4 | 44,096 | 70 | 51,445
Quarterly Interview Reinterview CPI instrument | 3,528 | 1 | 3,528 | 15 | 882
CE Diary: Household Questionnaire CAPI instrument | 7,676 | 3 | 23,028 | 25 | 9,595
CE Diary: CE-801, Record of Your Daily Expenses | 7,676 | 2 | 15,352 | 105 | 26,866
CE Diary Reinterview CAPI instrument | 921 | 1 | 921 | 15 | 230
Totals | 18,700 |  | 86,925 |  | 89,018
Please note: Reinterview respondents are a subset of the original number of respondents for each survey. Therefore, they are not counted again in the totals. Also, for the Diary, the “Record of Your Daily Expenses” respondents are the same as the “Household Questionnaire” respondents.

Affected Public: Individuals or households.

Total Burden Cost (capital/startup): $0.

Total Burden Cost (operating/maintenance): $0.

Comments submitted in response to this notice will be summarized and/or included in the request for Office of Management and Budget approval of the information collection request; they also will become a matter of public record.

Signed at Washington, DC, this 21st day of April, 2004.
Cathy Kazanowski,
Chief, Division of Management Systems, Bureau of Labor Statistics.

[FR Doc. 04-9807 Filed 4-29-04; 8:45 am]

BILLING CODE 4510-24-P